DEPARTMENT OF COMMERCE

International Trade Administration

[C-570-015]

53-Foot Domestic Dry Containers from the People's Republic of China: Postponement of Preliminary Determination in the Countervailing Duty Investigation

AGENCY: Enforcement and Compliance, formerly Import Administration, International Trade Administration, Department of Commerce.

FOR FURTHER INFORMATION CONTACT: Yasmin Nair at (202) 482-3813 or David Cordell at (202) 482-0408, AD/CVD Operations, Office VI, Enforcement and Compliance, International Trade Administration, Department of Commerce, 14th Street and Constitution Avenue NW., Washington, DC 20230.

SUPPLEMENTARY INFORMATION:

Background

On May 13, 2014, the Department of Commerce (the Department) initiated a countervailing duty investigation on 53-foot domestic dry containers from the People's Republic of China (PRC).¹ Currently, the preliminary determination is due no later than July 17, 2014.

¹ See 53-Foot Domestic Dry Containers From the People's Republic of China: Initiation of Countervailing Duty Investigation, 79 FR 28679 (May 19, 2014).

Postponement of the Preliminary Determination

Section 703(b)(1) of the Tariff Act of 1930, as amended (the Act), requires the Department to issue the preliminary determination in a countervailing duty investigation within 65 days after the date on which the Department initiated the investigation. However, if the petitioner makes a timely request for an extension in accordance with 19 CFR 351.205(e), section 703(c)(1)(A) of the Act allows the Department to postpone the preliminary determination until no later than 130 days after the date on which the Department initiated the investigation.

On June 18, 2014, the petitioner ² submitted a timely request pursuant to section 703(c)(1)(A) of the Act and 19 CFR 351.205(e) to postpone the preliminary determination.³ Therefore, in accordance with section 703(c)(1)(A) of the Act, we are fully extending the due date for the preliminary determination to not later than 130 days after the day on which the investigation was initiated. As a result, the deadline for completion of the preliminary determination is now September 22, 2014.⁴

² Stoughton Trailers, LLC (the petitioner).

³ See Letter from the petitioner, entitled “53-Foot Domestic Dry Containers from the People 's Republic of China,” dated June 18, 2014.

⁴ The actual deadline based on a 65-day extension is September 20, 2014, which is a Saturday. Department practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: June 19, 2014.
Ronald K. Lorentzen,
Acting Assistant Secretary for Enforcement and Compliance.

[FR Doc. 2014-16418 Filed 7-11-14; 8:45 am]

BILLING CODE 3510-DS-P